DEPARTMENT OF HOUSING AND URBAN DEVELOPMENT

[Docket No. FR-5600-FA-30]

Announcement of Funding Awards for the Public and Indian Housing Resident Opportunity and Self-Sufficiency (ROSS) Service Coordinators Grant Program Fiscal Year 2012

AGENCY: Office of the Assistant Secretary for the Office of Public and Indian Housing, HUD.

ACTION: Announcement of Funding Awards.

SUMMARY: In accordance with Section 102(a)(4)(C) of the Department of Housing and Urban Development Reform Act of 1989, this announcement notifies the public of funding decisions made by the Department in a competition for funding under the Fiscal Year 2012 Notice of Funding Availability (NOFA) for the Resident Opportunity and Self-Sufficiency (ROSS)—Service Coordinators Program for Fiscal Year 2012. This announcement contains the consolidated names and addresses of those award recipient selected for funding based on the funding priority categories established in the NOFA.

FOR FURTHER INFORMATION CONTACT: Joseph E. Taylor, Grants Management Center, Office of Public and Indian Housing, Department of Housing and Urban Development, 451 Seventh Street SW., B-133 Potomac Center, 3rd Floor, Washington, DC 20410, telephone 202-475-8852. Hearing or speech-impaired individuals may access this number via TTY by calling the toll-free Federal Relay Service at 800-877-8339. (Other than the “800 TTY number, these telephone numbers are not toll-free).

SUPPLEMENTARY INFORMATION: The purpose of the Public and Indian Housing ROSS Service Coordinators program is to provide grants to public housing agencies (PHAs), tribes/tribally designated housing entities (TDHEs), Resident Associations (RAs), and nonprofit organizations (including grassroots, faith-based and other community-based organizations) for the provision of a Service Coordinator to coordinate supportive services and other activities designed to help Public and Indian housing residents attain economic and housing self-sufficiency. This program works to promote the development of local strategies to coordinate the use of assistance under the Public Housing program with public and private resources, for supportive services and resident empowerment activities. A Service Coordinator ensures that program participants are linked to the supportive services they need to achieve self-sufficiency or remain independent.

On February 15, 2012, HUD posted its FY 2012 Resident Opportunity and Self-Sufficiency (ROSS) Service Coordinators NOFA. The NOFA made approximately $35 million, plus any carryover or recaptured funds from prior ROSS appropriations, available under the Consolidated and Further Continuing Appropriations Act, 2012 (Pub. L. 112-65, approved November 18, 2011). The Department reviewed and evaluated the applications received based on the criteria published in the FY 2012 NOFA, and has funded the applications announced in Appendix A.

In accordance with Section 102(a)(4)(C) of the Department of Housing and Urban Development Reform Act of 1989 (42 U.S.C. 3545), the Department is publishing the names, addresses, and amounts of the 113 awards made under the Public and Indian Housing ROSS Service Coordinators Programs competition.

Dated: May 2, 2013.
Sandra B. Henriquez,
Assistant Secretary for Public and Indian Housing.

Appendix A—Fiscal Year 2012 Funding Awards for the Resident Opportunity and Self-Sufficiency (ROSS)—Service Coordinators Program

Recipient | Address | City | State | Zip Code | Amount
Alexander City Housing Authority | 2110 County Road | Alexander City | AL | 35010 | $243,000
Bessemer Non-Profit Development Corporation | 1500 Exeter Avenue | Bessemer | AL | 35080 | 486,000
Mobile Housing Board | 151 South Claiborne Street | Mobile | AL | 36602 | 586,191
Tuscaloosa Housing Authority | 2808 10th Avenue | Tuscaloosa | AL | 35401 | 243,000
Housing Authority City of Fresno | 1331 Fulton Mall | Fresno | CA | 93721 | 243,000
Housing Authority of the City of Oxnard | 435 South D Street | Oxnard | CA | 93030 | 243,000
Housing Authority of the County of Marin | 4020 Civic Center Drive | San Rafael | CA | 94903 | 243,000
Housing Authority of the County of San Diego | 3989 Ruffin Road | San Diego | CA | 92123 | 243,000
Barney Ford Local Resident Council | 2024 Clarkson Street | Denver | CO | 80205 | 200,778
Quigg Newton Homes Local Resident Council | 4407 Mariposa Way | Denver | CO | 80211 | 200,778
Sun Valley Local Resident Council | 990 Alcott Way | Denver | CO | 80204 | 200,778
Housing Authority of the City of Hartford | 180 Overlook Terrace | Hartford | CT | 6106 | 480,000
Housing Authority of the City of New Haven | 360 Orange Street | New Haven | CT | 6511 | 486,000
Housing Authority of the City of Norwalk | 24 ½ Monroe Street | Norwalk | CT | 6856 | 243,000
Hialeah Housing Authority | 75 East 6th Street | Hialeah | FL | 33010 | 480,000
Housing Authority of The City of Bradenton, Florida | 2002 9th Avenue East | Bradenton | FL | 34208 | 144,000
Housing Authority of the City of Orlando, FL | 390 North Bumby Avenue | Orlando | FL | 32803 | 450,724
Housing Authority of the City of Tampa | 1514 Union Street | Tampa | FL | 0 | 682,560
Housing Authority of Columbus, Georgia | 1000 Wynnton Road | Columbus | GA | 31902 | 383,730
Housing Authority of DeKalb County | 750 Commerce Drive | Decatur | GA | 30030 | 171,000
Housing Authority of Savannah | 1407 Wheaton Street | Savannah | GA | 31404 | 243,000
Housing Authority of The City of Cairo | P.O. Box 478 | Cairo | GA | 39828 | 243,000
Housing Authority of the City of West Point | P.O. Box 545, 1201 East 12th Street | West Point | GA | 31833 | 191,565
Housing Authority of the City of Winder | 11 Horton Street | Winder | GA | 30680 | 212,608
Aurora Housing Authority | 1630 West Plum Street | Aurora | IL | 60506 | 229,000
Housing Authority of Joliet | 6 South Broadway Street | Joliet | IL | 60436 | 243,000
Housing Authority of the City of East St. Louis | 700 North 20th Street | East St. Louis | IL | 62205 | 486,000
City of Wichita Housing Authority | 332 North Riverview | Wichita | KS | 67203 | 219,000
Lawrence-Douglas County Housing Authority | 1600 Haskell Avenue | Lawrence | KS | 66044 | 243,000
Housing Authority of Martin | P.O. Box 806, 109 Raymond Griffith Drive, #1101 | Martin | KY | 41649 | 243,000
Housing Authority of Somerset | P.O. Box 449 | Somerset | KY | 42502 | 227,378
Housing Authority of the City of Monroe, Inc | 300 Harrison Street | Ouachita | LA | 71201 | 317,049
Boston Housing Authority | 52 Chauncy Street | Boston | MA | 2111 | 729,000
Holyoke Housing Authority | 475 Maple Street, Suite One | Holyoke | MA | 1040 | 243,000
Medford Housing Authority | 121 Riverside Avenue | Medford | MA | 2155 | 243,000
Taunton Housing Authority | 30 Olney Street, Suite B | Taunton | MA | 2780 | 243,000
Worcester Housing Authority | 40 Belmont Street | Worcester | MA | 1605 | 240,000
Allendale Tenant Council | 3600 West Franklin Street | Baltimore | MD | 21229 | 243,000
Brooklyn Homes Tenant Council | 4140 Tenth Street | Baltimore | MD | 21225 | 243,000
Housing Authority of Baltimore City | 417 East Fayette Street, Room 923 | Baltimore | MD | 21202 | 729,000
Housing Authority of the City of Frederick | 209 Madison Street | Frederick | MD | 21701 | 216,000
Housing Opportunities Commission of Montgomery County, MD | 10400 Detrick Avenue | Kensington | MD | 20895 | 237,000
J Van Story Branch Tenant Council | 11 West 20th Street | Baltimore | MD | 21218 | 243,000
Morris H Blum Tenant | 701 Glenwood Street | Annapolis | MD | 21401 | 243,000
Penobscot Indian Nation | 12 Wabanaki Way | Indian Island | ME | 4468 | 243,000
Detroit Housing Commission | 1301 East Jefferson | Detroit | MI | 48207 | 711,450
Grand Rapids Housing Commission | 1420 Fuller Avenue, SE | Grand Rapids | MI | 49507 | 229,000
Pokagon Band of Potawatomi Indians | 58620 Sink Road | Dowagiac | MI | 49047 | 243,000
Wayne Metropolitan Community Action Agency | 2121 Biddle Ave, Suite 102 | Wyandotte | MI | 48192 | 243,000
Hopkins Housing and Redevelopment Authority | 1010 1st Street South | Hopkins | MN | 55343 | 236,808
Housing Authority of St. Louis Park | 5005 Minnetonka Boulevard | St. Louis Park | MN | 55416 | 243,000
HRA of Alexandria, Minnesota | 805 Fillmore Street | Alexandria | MN | 56308 | 243,000
Moorhead Public Housing Agency | 800 2nd Avenue North | Moorhead | MN | 56560 | 243,000
Choctaw Housing Authority | P.O. Box 6088, Highway 16 West | Choctaw | MS | 39350 | 243,000
Forest Housing Authority | 518 North 4th Avenue | Forest | MS | 39074 | 243,000
Mississippi Regional Housing Authority No. VIII | P.O. Box 2347, Gulfport, MS 39505, 10430 Three Rivers Road | Gulfport | MS | 39501 | 243,000
Housing Authority of the City of Asheville | 165 South French Broad Avenue | Asheville | NC | 28801 | 486,000
Housing Authority of the City of Charlotte, NC | 1301 South Boulevard | Charlotte | NC | 28203 | 729,000
Housing Authority of the City of Wilmington, NC | 1524 South 16th Street | Wilmington | NC | 28401 | 486,000
Housing Authority of the City of Winston-Salem | 500 West Fourth Street, Suite 300 | Winston-Salem | NC | 27101 | 243,000
Spirit Lake Housing Corporation | P.O. Box 187 | Fort Totten | ND | 58335 | 172,569
Enable, Inc | 13 Roszel Road, Suite B110 | Princeton | NJ | 8540 | 243,000
Housing Authority of Gloucester County | 100 Pop Moylan Boulevard | Deptford | NJ | 8096 | 243,000
Housing Authority of the City of East Orange | 160 Halsted Street | East Orange | NJ | 7018 | 243,000
Housing Authority of the City of Linden | 1601 Dill Avenue | Linden | NJ | 7036 | 243,000
New Jersey Association of Public and Subsidized Housing | 303 Washington Street, 4th Floor | Newark | NJ | 7102 | 243,000
Pleasantville Housing Authority | 156 North Main Street | Pleasantville | NJ | 8232 | 243,000
Richmond Towers Resident Association | 510-520 East Front Street | Plainfield | NJ | 7060 | 243,000
Adrean-Matt Resident Association | 509 Second Street, Suite One | Utica | NY | 13501 | 243,000
Akwesasne Housing Authority | 378 State Route 37, Suite A | Hogansburg | NY | 13655 | 243,000
Citywide Council of Low Income Housing Residents | 516 Burt Street | Syracuse | NY | 13202 | 243,000
Citywide Council of Syracuse Low Income Housing Residents | 516 Burt Street | Syracuse | NY | 13202 | 486,000
Curran Court Homes Tenant Council | 1511 Central Park Avenue | Yonkers | NY | 10710 | 243,000
Gillmore-Humphrey Resident Association | 509 Second Street, Suite One | Utica | NY | 13501 | 243,000
Marino-Peretta Resident Association | 509 Second Street, Suite One | Utica | NY | 13501 | 243,000
New Rochelle Municipal Housing Authority | 50 Sickles Avenue | New Rocelle | NY | 10801 | 243,000
New York City Housing Authority | 250 Broadway | New York | NY | 10007 | 729,000
Poughkeepsie Housing Authority | 4 Howard Street | Poughkeepsie | NY | 12601 | 243,000
Troy Manor Tenant Council | 1511 Central Park Avenue | Yonkers | NY | 10710 | 243,000
Walsh Road Homes Tenant Council | 1511 Central Park Avenue | Yonkers | NY | 10710 | 243,000
Dayton Metropolitan Housing Authority | P.O. Box 8750, 400 Wayne Avenue | Dayton | OH | 45401 | 692,181
Fairfield Metropolitan Housing Authority | 315 North Columbus Street | Lancaster | OH | 43130 | 172,860
Progressive Action Council | 6001 Woodland Avenue | Cleveland | OH | 44104 | 243,000
Housing Authority of the City of Pittsburgh | 200 Ross Street | Pittsburgh | PA | 15219 | 558,545
Housing Authority of the County of Franklin | 436 West Washington Street | Chambersburg | PA | 17201 | 167,716
Mercer County Housing Authority | 80 Jefferson Avenue | Sharon | PA | 16146 | 195,000
Ramsey Educational Development Institute (REDI) | 1060 1st Avenue, Suite 430 | King of Prussia | PA | 19406 | 240,000
Housing Authority of the City of Spartanburg | 201 Caulder Avenue, Suite A | Spartanburg | SC | 29306 | 480,000
Franklin Housing Authority | 200 Spring Street | Franklin | TN | 37064 | 200,592
Metropolitan Development and Housing Agency (MDHA) | 701 South Sixth Street | Nashville | TN | 37206 | 729,000
Shelbyville Housing Authority | 316 Templeton Street | Shelbyville | TN | 37160 | 212,408
Georgetown Housing Authority | 210 West 8th Street | Georgetown | TX | 78626 | 186,439
HACA City-Wide Advisory Board | 1124 S. IH-35 | Austin | TX | 78704 | 486,000
Housing Authority of the City of Kingsville | 1000 West Corral | Kingsville | TX | 78363 | 243,000
Housing Authority of the City of San Antonio | 818 S. Flores Street | San Antonio | TX | 78204 | 621,000
The Housing Authority of the City of Dallas, Texas (DHA) | 3939 North Hampton Road | Dallas | TX | 75212 | 699,000
Housing Authority of the County of Salt Lake | 3595 South Main Street | Salt Lake City | UT | 84115 | 243,000
Bristol Redevelopment and Housing Authority | 809 Edmond Street | Bristol | VA | 24201 | 198,864
City of Roanoke Redevelopment & Housing Authority | 2624 Salem Turnpike NW | Roanoke | VA | 24017 | 407,816
Fairfax Co. Redevelopment & Housing Authority | 3700 Pender Drive, Suite 300 | Fairfax | VA | 22030 | 486,000
Newport News Redevelopment and Housing Authority | 227 27th Street | Newport News | VA | 23607 | 296,272
Suffolk Redevelopment and Housing Authority | 500 East Pinner Street | Suffolk | VA | 23434 | 230,435
Waynesboro Redevelopment and Housing Authority | P. O. Box 1138, 1700 New Hope Road | Waynesboro | VA | 22980 | 182,770
Brattleboro Housing Authority | P.O. Box 2275 | Brattleboro | VT | 5303 | 243,000
Rutland Housing Authority | 5 Templewood Court | Rutland | VT | 5701 | 241,194
Housing Authority of the City of Vancouver | 2500 Main Street, Suite 100 | Vancouver | WA | 98660 | 233,321
Lummi Nation Housing Authority | 2828 Kwina Road | Bellingham | WA | 98226 | 241,500
Puyallup Tribal Housing Authority | 2806 East Portland Avenue | Tacoma | WA | 98404 | 243,000
City of Madison Community Development Authority, Housing Ops | 215 Martin Luther King, Jr., Boulevard, City of Madison Municipal Building, Room 120 | Madison | WI | 53703 | 243,000
College Court Resident Organization | c/o Kenneth Barbeau, Contract Administrator, HACM, 650 West Reservoir Avenue | Milwaukee | WI | 53212 | 222,672
Locust Court Resident Organization | c/o Kenneth Barbeau, Contract Administrator, HACM, 650 West Reservoir Ave | Milwaukee | WI | 53212 | 222,672
Merrill Park Resident Organization | 650 West Reservoir Avenue, c/o Kenneth Barbeau, Contract Administrator, HACM | Milwaukee | WI | 53212 | 222,672
St. Croix Chippewa Housing Authority | 4456 State Road 70 | Webster | WI | 54893 | 200,112

[FR Doc. 2013-11553 Filed 5-14-13; 8:45 am]

BILLING CODE 4210-67-P